DEPARTMENT OF THE INTERIOR

National Park Service

[N6537; NPS-WASO-NAGPRA-NPS0041127; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice.

DATES: Repatriation of the cultural items in this notice may occur on or after October 27, 2025.

ADDRESSES: Send additional, written requests for repatriation of the cultural items in this notice to Megan Murphy, University of California, Riverside, 900 University Avenue, Riverside, CA 92517-5900, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of 12 cultural items have been requested for repatriation. The 12 objects of cultural patrimony are two lots of lithics, one hammerstone, one mano, one metate, one lot of ceramics, one shell bead, one projectile point, one lot of soil samples, one lot of marine shells, one lot of faunal bone, and one clay object.

Between 1989 and 1992 one lot of lithic flakes and one hammerstone were collected from archaeological site CA-SBR-86, also known as Elephant Mountain Quarry, as part of a graduate student's dissertation project and were assigned UCR accession number 176. Anthropologists including Kroeber, Bean, and Smith, generally agree that Elephant Mountain is located in the ancestral territory of the Vanyume, a dessert branch of the Serrano people. Broken grinding stones and pestles, debitage, and other cultural materials were noted by the student as being evidence of prehistoric quarrying. The flakes and hammerstones were identified by tribal representatives as being objects of cultural patrimony for the Serrano people. The two objects of cultural patrimony are one lot of lithic flakes and one hammerstone.

In 1972, the University of California, Riverside Archaeological Research Unit (UCR-ARU) was contracted to conduct an archaeological survey of portions of a proposed pipeline through the Fry Mountain region in San Bernardino county, California. No cultural objects were reported to have been collected in the survey report, however, in 2022 the UCR NAGPRA Program discovered a large grinding stone labelled “Cottonwood, Gardner. ARU #??? No Acc #” in the UCR archaeological collections. UCR NAGPRA Program staff were able to connect the stone to the 1972 project based on descriptions of areas surveyed in the 1972 report. The stone was assigned UCR Accession number 407. The stone was identified by tribal representatives as being an object of cultural patrimony for the Serrano people. The one object of cultural patrimony is one metate.

In 2022, UCR NAGPRA Program staff discovered 17 ceramic Brownware sherds in the UCR archaeological collections labelled “17 sherds collected by GTJ, Field Loc. #1, north end of West Cronese Lake, west of Baker”. No other information could be connected with the sherds. The sherds were assigned UCR Accession number 425. The sherds were identified by tribal representatives as coming from Serrano Ancestral Territory and being objects of cultural patrimony for the Serrano people. The one lot of cultural patrimony is one lot of ceramics.

In 2022, UCR NAGPRA Program staff discovered an Olivella shell bead in the UCR archaeological collections labelled “W. Margin of Means Dry Lake, ¼ mile West of Road”. No other information could be connected with the bead. The bead was assigned UCR Accession number 436. The bead was identified by tribal representatives as coming from Serrano Ancestral Territory and being an object of cultural patrimony for the Serrano people. The one object of cultural patrimony is one shell bead.

In 2022, UCR NAGPRA Program staff discovered a projectile point in the UCR archaeological collections labelled “Ord Mountain Quad 15 min series, Tyler Lake Bed, Stephen Brown”. No other information could be connected with the projectile point. The point was assigned UCR Accession number 437. The projectile point was identified by tribal representatives as coming from Serrano Ancestral Territory and being objects of cultural patrimony for the Serrano people. The one object of cultural patrimony is one projectile point.

In 2022, UCR NAGPRA Program staff discovered a lithic flake and a mano fragment in the UCR archaeological collections labelled “SBCM #2459”. Archaeological site SBCM-2459 is also identified as CA-SBR-83 and is located near Cave Mountain in San Bernardino county. The site is described in archaeological site records as a “small surface site on both sides of a small recut fan, on North side of Mojave River”. Other surface objects noted in site records include potsherds, a metate fragment, manos, choppers, and lithic flakes. The objects were assigned UCR Accession number 459. The mano fragment and lithic flaked were identified by tribal representatives as coming from Serrano Ancestral Territory and being objects of cultural patrimony for the Serrano people. The two objects of cultural patrimony are one lot of lithics and one mano.

At an unknown date, an unknown researcher submitted four soil samples from archaeological site CA-SBR-113 to the University of California, Riverside Radiocarbon Laboratory. The site is located in the hills near Crowder Creek in San Bernardino county and is described by archaeologists as probably being “a seasonal plant procurement and processing site with little emphasis on hunting”. Roasting pits/hearths, lithic surface scatter, and a possible prepared surface were also reported by archaeologists in site records. The soil samples were identified by tribal representatives as coming from Serrano Ancestral Territory and being objects of cultural patrimony for the Serrano people. The one object of cultural patrimony is one lot of soil samples.

From 1970 to 1984, Donald Shusky, an amateur malacologist, collected marine shells, an animal tooth, and a clay object from his personal residence in Redlands, California. These materials were sent to the UCR Radiocarbon Laboratory to be dated and remained at UCR in the archaeological collections. The materials were identified by tribal representatives as coming from Serrano Ancestral Territory and being objects of cultural patrimony for the Serrano people. The three objects of cultural patrimony are one clay object, one lot of marine shells, and one lot of faunal bone.

Determinations

The University of California, Riverside has determined that:

• The 12 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Morongo Band of Mission Indians, California and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 27, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

(Authority: Native American Graves Protection and Repatriation Act, 25 U.S.C. 3004 and the implementing regulations, 43 CFR 10.9.)

Dated: September 11, 2025.
Melanie O'Brien,
Manager, National NAGPRA Program.

[FR Doc. 2025-18585 Filed 9-24-25; 8:45 am]

BILLING CODE 4312-52-P